SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) federal agencies to publish a notice in the Federal Register concerning each proposed collection of information before submission to OMB, and to allow 60 days for public comment in response to the notice. This notice complies with that requirement.

DATES: Submit comments on or before August 1, 2022.

ADDRESSES: Send all comments to, Donald Smith, Deputy Assistant Administrator, Office of Women's Business Ownership, Small Business Administration.

FOR FURTHER INFORMATION CONTACT: Donald Smith, Deputy Assistant Administrator, Donald.smith@sba.gov 202-205-7279, or Curtis B. Rich, Agency Clearance Officer, 202-205-7030 curtis.rich@sba.gov.

SUPPLEMENTARY INFORMATION: The Women's Business Center Program is funded by the SBA to provide entrepreneurial development services and current business owners. There is no data collection currently in place to systematically track program outcomes such as client satisfaction, adoption of new business practices or change in business size or scope. This data collection fills the gap by administering a service outcome survey to a random sample of WBC clients.

OMB Control Number: 3245-0402.

Title: “Women's Business Center Program”.

Description of Respondents: Entrepreneurial development services and current business owners.

Form Number: N/A.

Annual Responses: 2,087.

Annual Burden: 700.

Curtis Rich,
Agency Clearance Officer.

[FR Doc. 2022-11583 Filed 5-27-22; 8:45 am]

BILLING CODE 8026-09-P